COMMODITY FUTURES TRADING COMMISSION

Sunshine Act Meetings

TIME AND DATE: 9:30 a.m. EST, Friday, January 10, 2025.

PLACE: Virtual meeting.

STATUS: Closed.

MATTERS TO BE CONSIDERED: Matters relating to the CFTC's bargaining position and related issues concerning ongoing negotiations over CFTC employee compensation and benefits. In the event that the time, date, or location of this meeting changes, an announcement of the change, along with the new time, date, and/or place of the meeting will be posted on the Commission's website at https://www.cftc.gov/.

CONTACT PERSON FOR MORE INFORMATION: Christopher Kirkpatrick, 202-418-5964.

(Authority: 5 U.S.C. 552b.)

Dated: January 3, 2025.
Christopher Kirkpatrick,
Secretary of the Commission.

[FR Doc. 2025-00221 Filed 1-3-25; 4:15 pm]

BILLING CODE 6351-01-P